ENVIRONMENTAL PROTECTION AGENCY

[FRL-6566-4]

Notice of Availability of the Tribal Drinking Water Operator Certification Program Draft Guidelines

AGENCY: Environmental Protection Agency.

ACTION: Notice of availability.

SUMMARY: The U.S. Environmental Protection Agency (EPA) is seeking comments from Tribes and other parties who will be affected by or are otherwise interested in the Tribal Drinking Water Operator Certification Program Draft Guidelines. EPA will consider the comments received when developing the final guidelines. There will be a 90-day comment period starting from the publication date of this notice of availability.

DATES: Comments should be postmarked or received via email by June 27, 2000.

ADDRESSES: Send comments to Attn: Staci Gatica (MC: 4606), Environmental Protection Agency, Ariel Rios Building, 1200 Pennsylvania Ave. NW, Washington DC 20460. Comments can also be sent via email to gatica.staci@epamail.epa.gov. Typed comments are preferred.

AVAILABILITY: Please contact the Safe Drinking Water Hotline at 1-800-426-4791 to receive a copy of the Tribal Drinking Water Operator Certification Program Draft Guidelines. The draft guidelines are also available on the EPA Office of Ground Water and Drinking Water website at http://www.epa.gov/safewater/tribal.html.

FOR FURTHER INFORMATION CONTACT: The Safe Drinking Water Hotline, toll free (800) 426-4791, can be contacted for general information about and copies of this document. For technical inquiries, contact Staci Gatica, Implementation and Assistance Division, Office of Ground Water and Drinking Water (4606), Environmental Protection Agency, Ariel Rios Building, 1200 Pennsylvania Ave. NW, Washington DC 20460. The telephone number is (202) 260-3967 and the e-mail address is gatica.staci@epamail.epa.gov.

SUPPLEMENTARY INFORMATION: The Safe Drinking Water Act (SDWA) Amendments of 1996 direct the EPA, in cooperation with the States, to develop guidelines specifying minimum standards for certification and recertification of operators of State community and nontransient noncommunity public water systems. The requirements pertaining to States do not apply to Tribes but because having a certified operator is a key factor in public health protection, EPA is developing, in cooperation with Tribes, a voluntary Tribal Drinking Water Operator Certification Program. This program is intended to protect public health by providing Tribes with additional opportunities to become trained and certified, by developing base standards for non-State organizations certifying operators of tribal systems and by establishing a consistent method of assessing, tracking, and addressing certification and training needs on tribal lands.

Cynthia C. Dougherty,
Director, Office of Ground Water and Drinking Water, U.S. Environmental Protection Agency.

[FR Doc. 00-7629 Filed 3-29-00; 8:45 am]

BILLING CODE 6560-50-P